DEPARTMENT OF THE INTERIOR

National Park Service

National Register of Historic Places; Notification of Pending Nominations

Nominations for the following properties being considered for listing in the National Register were received by the National Park Service before October 19, 2002.

Pursuant to section 60.13 of 36 CFR part 60 written comments concerning the significance of these properties under the National Register criteria for evaluation may be forwarded by United States Postal Service, to the National Register Historic Places, National Park Service, 1849 C St. NW, 2280, Washington, DC 20240; by all other carriers, National Register of Historic Places, National Park Service,1201 Eye St. NW., 8th floor, Washington DC 20005; or by fax, 202-343-1836. Written or faxed comments should be submitted by November 25, 2002.

Beth L. Savage,
Acting Keeper of the National Register of Historic Places.

ALASKA

Juneau Borough—Census Area

Sentinel Island Light Station (Light Stations of the United States MPS), Sentinel Island, Juneau, 02001407

CALIFORNIA

Shasta County

Phillips Brothers Mill, Approx. 30 mi. NE of Redding, Oak Run, 02001406

COLORADO

Fremont County

Rouch Gulch Bridge (Highway Bridges in Colorado MPS), US 50 at milepost 230.12, Swissvale, 02001410

Larimer County

Bee Farm, 4320 E. Cty Rd. 58, Fort Collins, 02001409

Rio Grande County

Creede Branch, Denver and Rio Grande Railroad (Railroads in Colorado, 1858-1948 MPS), Along the D&RGW right-of-way bet. South Fork and Creede, South Fork, 02001408

GEORGIA

Gordon County

Taylor, William, House, 3032 Battlefield Parkway, Resaca, 02001414

ILLINOIS

Macon County

West End Historic District, Roughly bounded by S. Fairview Ave., Park Place, Fairview Park, Westdale Ave., W. Main St., Glencoe Ave., Sunset Ave., Decatur, 02001444

Tazewell County

Dement—Zinser House, 105 Zinser Place, Washington, 02001411

MAINE

Knox County

Manana Island Fog Signal Station (Light Stations of the United States MPS), Monhegan Island, Monhegan Island, 02001412

Lincoln County

Cuckolds Light Station (Light Stations of the United States MPS), The Cuckolds, Southport, 02001413

MARYLAND

Anne Arundel County

Baltimore Light Station (Light Stations of the United States MPS), Gibson Island, Gibson Island, 02001417

Sandy Point Shoal Light Station (Light Stations of the United States MPS), Approx. 0.5 mi. off of Sandy Pt., Skidmore, 02001424

Baltimore County

Craighill Channel Lower Range Front Light Station (Light Stations of the United States MPS), 3.5 mi. SE of Fort Howard, Baltimore, 02001420

Cut-Off Channel Range Front Light Station (Light Stations of the United States MPS), SW of Fort Howard, Fort Howard, 02001415

Cut-off Channel Range Rear Light Station (Light Stations of the United States MPS), Sparrows Point, Edgemore, 02001423

Graighill Channel Lower Range Rear Light Station (Light Stations of the United States MPS), Edgemere Area, Edgemere, 02001418

Cecil County

Turkey Point Light Station,

(Light Stations of the United States MPS),

South Elk Neck State Park,

North East, 02001421

Dorchester County

Hooper Island Light Station,

(Light Stations of the United States MPS),

Approx. 5 mi. S of Cove Pt,

Hooperville, 02001426

Queen Anne's County

Bloody Point Bar Light Station,

(Light Stations of the United States MPS),

Near Claiborne,

Claiborne, 02001416

Somerset County

Solomons Lump Light Station,

(Light Stations of the United States MPS),

1.5 mi. N of Abrahams Pt.,

Crisfield, 02001422

St. Mary's County

Point No Point Light Station,

(Light Stations of the United States MPS),

Approx. 2 mi. ESE of Point No Point,

Dameron, 02001425

Massachusetts

Middlesex County

Minute Man National Historical Park,

Minute Man National Historical Park,

Lexington, 02001445

Missouri

Greene County

Palace Hotel,

(Springfield, Missouri MPS (Additional Documentation)),

501 College St.,

Springfield, 02001419

St. Louis Independent City

Luyties Homeopathic Pharmacy Company Building,

4200 Laclede Ave., St. Louis (Independent City), 02001442

Missouri Pacific Building,

210 N. 13th St., St. Louis (Independent City), 02001441

Pennsylvania

Dauphin County

Millersburg Passenger Rail Station,

127 W. Center St.,

Millersburg, 02001430

Monroe County

Delaware, Lackawanna and Western Railroad Water Gap Station,

Waring Dr.,

Delaware Water Gap, 02001431

Montgomery County

Lower Merion Academy—Cynwyd Elementary School—Bala Cynwyd Junior High

School Complex,

506 Bryn Mawr Ave.,

Bala Cynwyd, 02001429

Philadelphia County

Lorraine Apartments,

699 N. Broad St.,

Philadelphia, 02001427

South Dakota

Lake County

Lake Badus Rural Agricultural Historic District,

Roughly bounded by U.S. 81, Cty Rd. 16, Cty Rd 37, and Cty Rd. 20,

Nunda, 02001428

Virginia

Bristol Independent City

Virginia Hill Historic District,

Sections of Moore, Lee, Russell, Clinton, Spencer, W. Mary and Buchanan

Sts.,

Bristol (Independent City), 02001447

Hampton Independent City

Thimble Shoal Light Station,

(Light Stations of the United States MPS),

Approx. 1.5 mi. E of Fort Monroe Military Reservation,

Hampton City (Independent City), 02001436

Mathews County

Wolf Trap Light Station,

(Light Stations of the United States MPS), SE of New Point Comfort,

Poquoson East, 02001434

New Kent County

Spring Hill,

11221 Carriage Rd.,

Providence Forge, 02001448

Newport News Independent City

Newport News Middle Ground Light Station,

(Light Stations of the United States MPS),

Approx. 2 mi. SSE of Newport News,

Newport News (Independent City), 02001438

Northumberland County

Smith Point Light Station,

(Light Stations of the United States MPS),

Bamboo Island,

Smith Point, 02001437

Norton Independent City

Grandin Road Commercial Historic District,

Grandin Rd. SW, and Memorial Ave.,

Roanoke (Independent City), 02001450

Pittsylvania County

Locust,

7408 Ward's Rd.,

Hurt, 02001449

Richmond Independent City

Forest Hill Park, Bet. Riverside Dr., Forest Hill Ave., and 42nd St., and 34th St.,

Richmond (Independent City), 02001446

Virginia Beach Independent City

Cape Henry (Second Tower) Light Station,

(Light Stations of the United States MPS), Atlantic Ave.,

Fort Story, 02001439

Westmoreland County

Mount Pleasant,

317 Coles Point Rd.,

Hague, 02001440

Wisconsin

Dane County

Shorewood Historic District,

Roughly bounded by Lake Mendota Dr., Tallyho Ln., and Shorewood Blvd.,

Village of Shorewood Hills, 02001432

United States Post Office and Federal Courthouse,

215 Martin Luther King Junior Blvd.,

Madison, 02001443

[FR Doc. 02-28517 Filed 11-7-02; 8:45 am]

BILLING CODE 4310-70-P